DEPARTMENT OF DEFENSE

Office of the Secretary

Finding of No Significant Impact and Final Environmental Assessment for DARPA's Reefense Program, Baker Point, Florida

AGENCY: Defense Advanced Research Projects Agency (DARPA), Department of Defense (DoD).

ACTION: Notice of availability.

SUMMARY: DARPA announces the availability of a Finding of No Significant Impact (FONSI) and a Final Environmental Assessment (EA) for the Reefense Program at Baker Point, Florida. The environmental review process led to the conclusion that the proposed action will not have a significant effect on the human environment. Therefore, an Environmental Impact Statement will not be prepared.

ADDRESSES: The Final EA and FONSI are available online through the project website at https://hsrl.rutgers.edu/research/darpa-reefense.

FOR FURTHER INFORMATION CONTACT: Dr. Catherine Campbell, 703-526-2044 (Voice), Catherine.Campbell@darpa.mil (Email).

SUPPLEMENTARY INFORMATION: Notification of the availability of the Draft EA was published in the Federal Register (89 FR 37184) on May 6, 2024. The public review period began on May 6, 2024 and concluded on June 5, 2024. Legal notices were published in the Panama City News Herald on May 9 and May 12, 2024. DARPA received two comments: one from a private individual and one from the Environmental Protection Agency, Region 4. Comments received during this public review were considered when preparing the Final EA. DARPA's proposed action analyzed in the EA is for the installation of bio-hybrid oyster reef structures to test whether such structures can attenuate wave energy more effectively than traditional hardscape solutions to protect coastal shorelines and infrastructure. Components would consist of reef module breakwaters, mosaic oyster habitat structures, and intertidal vegetation planting. These structures, or modules, created using cutting-edge scientific advances, are intended to create a self-sustaining oyster reef to attenuate wave energy and, thus, protect upland infrastructure by mitigating damage related to coastal flooding, erosion, and storm surge. The geographic scope analyzed in the EA is a proposed action area of approximately one acre located off the coast of Baker Point, Florida that is adjacent to Tyndall Air Force Base and within East Bay of the St. Andrew Bay estuary. The analysis within the EA yielded no significant impacts to the resources analyzed and would not result in significant impacts overall. The EA and FONSI were prepared in accordance with the National Environmental Policy Act of 1969, as amended (42 United States Code 4321 et seq.) and Council on Environmental Quality implementing regulations (40 Code of Federal Regulations parts 1500-1508).

Dated: October 16, 2024.
Aaron T. Siegel,
Alternate OSD Federal Register Liaison Officer, Department of Defense.

[FR Doc. 2024-24291 Filed 10-18-24; 8:45 am]

BILLING CODE 6001-FR-P